DEPARTMENT OF TRANSPORTATION

Federal Highway Administration

Notice of Final Federal Agency Actions on Proposed Highway in California

AGENCY: Federal Highway Administration (FHWA), DOT.

ACTION: Notice of Limitation on Claims for Judicial Review of Actions by FHWA and the U.S. Fish and Wildlife Service.

SUMMARY: The Federal Highway Administration (FHWA) is issuing this notice to announce actions taken by FHWA and the U.S. Fish and Wildlife Service that are final. This notice announces to the public that FHWA, as the National Environmental Policy Act (NEPA) lead agency, has prepared and approved (December 17, 2018) a Final Environmental Assessment (EA) with a Finding of No Significant Impact (FONSI). The actions relate to a proposed highway project in Santa Cruz County, California. The actions taken by FHWA and the U.S. Fish and Wildlife Service grant licenses, permits, and approvals for the project.

DATES: By this notice, the FHWA, is advising the public of final agency actions subject to 23 U.S.C. 139(l)(1). A claim seeking judicial review of the Federal agency actions on the highway project will be barred unless the claim is filed on or before August 5, 2019. If the Federal law that authorizes judicial review of a claim provides a time period of less than 150 days for filing such claim, then that shorter time period still applies.

FOR FURTHER INFORMATION CONTACT:

For FHWA: David Tedrick, Senior Environmental Specialist, Federal Highway Administration, 650 Capitol Mall, Suite 4-100, Sacramento, CA 95814, (916) 498-5024, or email: david.tedrick@dot.gov.

For Caltrans: Lara Bertaina, Senior Environmental Planner, California Department of Transportation, 50 Higuera Street, San Luis Obispo, CA 93401, phone: (805) 542-4610, or email: lara.bertaina@dot.ca.gov.

SUPPLEMENTARY INFORMATION: The overall project (Tier I), which would be built as a series of smaller “tiered” projects, spans approximately 8.9 miles along State Route (SR) 1 starting approximately 0.4 mile south of the San Andreas-Larkin Valley Road interchange and ending 0.3 mile north of the Morrissey Boulevard interchange (postmile [PM] 7.3 to PM 16.2) and the Tier II project (project), a 1.4-mile segment of the Tier I project located between the 41st Avenue and Soquel Drive/Soquel Avenue interchanges (PM 3.5 to PM 14.9). The project is located outside coastal zone jurisdiction. The Santa Cruz County Regional Transportation Commission (SCCRTC) is proposing to widen SR 1 by adding an auxiliary lane to both northbound and southbound sides between the 41st Avenue and Soquel Drive interchanges. The new auxiliary lanes would be 12 feet wide. In the northbound direction, the project proposes to pave a 10-foot-wide median shoulder and widen the roadway to the outside in order to add the 12-foot-wide auxiliary lane and a new 10-foot-wide shoulder. In the southbound direction, the width needed for the new lane would be added in the median, and the median barrier would be shifted approximately five feet toward the northbound side of the freeway to make room for the new lane and a standard 10-foot-wide shoulder. Where the new southbound lane meets the existing ramps, outside shoulder widening would occur to achieve standard 10-foot-wide shoulders. The project would also include the construction of required retaining walls and a pedestrian/bicycle overcrossing at Chanticleer Avenue. The Final Tier I/Tier II Environmental Assessment (EA)/Environmental Impact Report (EIR) is a joint project by Caltrans, the Federal Highway Administration (FHWA), and the Santa Cruz County Regional Transportation Commission (SCCRTC) and is subject to state and federal environmental review requirements. FHWA and Caltrans jointly prepared the Final EA/EIR pursuant to the requirements of the National Environmental Policy Act (NEPA) and the California Environmental Quality Act (CEQA). Caltrans is the lead agency under CEQA. The FHWA is the lead agency under NEPA.

The Tier I project proposes to widen approximately 8.9 miles of SR 1 in order to provide high-occupancy vehicle (HOV) lanes, auxiliary lanes, pedestrian overcrossings, and related improvements in the County of Santa Cruz, State of California. The actions by the Federal agencies, and the laws under which such actions were taken, are described in the Final EIR/EA for the project, approved on January 3, 2019, in the FHWA Finding of No Significant Impact (FONSI), issued on December 17, 2018, and in other documents in the FHWA project records. The Final EIR/EA, FONSI, and other project records are available by contacting FHWA, at the address provided above. The FHWA Final EIR/EA and FONSI can be viewed and downloaded from the project website at: https://sccrtc.org/projects/streets-highways/hwy1corridor/.

The U.S. Fish and Wildlife biological opinion 08EVEN00-2018-F-0421 is available by contacting FHWA, at the address provided above. This notice applies to all Federal agency decisions as of the issuance date of this notice and all laws under which such actions were taken, including but not limited to:

1. Council on Environmental Quality regulations (40 CFR 1500 et seq.; 23 CFR 771);

2. National Environmental Policy Act (NEPA) (42 U.S.C. 4321-4351 et seq.);

3. Federal-Aid Highway Act of 1970, 23 U.S.C. 109;

4. Fixing America's Surface Transportation Act of 2015;

5. Clean Air Act of 1963, as amended (42 U.S.C. 7401 et seq.);

6. Clean Water Act of 1977 (33 U.S.C. 1344);

7. Federal Land Policy and Management Act of 1976 (Paleontological Resources);

8. Safe Drinking Water Act of 1944, as amended;

9. Noise Control Act of 1979 (42 U.S.C. 4901 et seq.);

10. FHWA Noise Standards, Policies, and Procedures (23 CFR 772);

11. Department of Transportation Act of 1966, Section 4(f) (49 U.S.C. 303);

12. Endangered Species Act of 1973 (16 U.S.C. 1531-1543);

13. Migratory Bird Treaty Act (16 U.S.C. 703-712);

14. National Historic Preservation Act of 1966, as amended (54 U.S.C. 306108 et seq.);

15. Executive Order 11990, Protection of Wetlands;

16. Executive Order 13112, Invasive Species;

17. Executive Order 12898, Federal Actions to Address Environmental Justice and Low-Income Populations;

18. Title VI of Civil Rights Act 1964 (42 U.S.C. 2000d et seq.), as amended.

(Catalog of Federal Domestic Assistance Program Number 20.205, Highway Planning and Construction. The regulations implementing Executive Order 12372 regarding intergovernmental consultation on Federal programs and activities apply to this program.)

Authority: 23 U.S.C. 139(l)(1).

Maiser Khaled,
Director, Technical Services Team, Federal Highway Administration, Sacramento, California .

[FR Doc. 2019-04130 Filed 3-6-19; 8:45 am]

BILLING CODE 4910-RY-P